DEPARTMENT OF STATE

[Public Notice 6080]

Announcement of Meetings of the International Telecommunication Advisory Committee

Summary: This notice announces meetings of the International Telecommunication Advisory Committee (ITAC) to prepare advice on U.S. positions for the March/April 2008 meeting of the International Telecommunication Union Telecommunication Standardization Sector (ITU-T) Study Group 3 (Tariff and accounting principles including related telecommunication economic and policy issues) and the April 2008 meeting of the Organization of American States Inter-American Telecommunication Commission Permanent Consultative Committee I (Telecommunication) (OAS/CITEL/PCC.I).

The ITAC will meet to prepare advice for the U.S. on positions for the March/April 2008 meeting of the ITU-T Study Group 3 and related issues of the International Telecommunication Regulations on Tuesday afternoons February 19, March 4, 11, and 18, 2008 2-4PM EST in the Washington, DC metro area. Meeting details and detailed agendas will be posted on the mailing list sga@eblist.state.gov. People desiring to participate on this list may apply to the secretariat at minardje@state.gov.

The ITAC will meet to prepare advice for the U.S. on positions for the April 2008 meeting of the OAS CITEL PCC.I on Thursday February 21, 2008 10AM—noon EST at a location in the Washington, DC metro area. We expect this meeting to be continued as necessary. Meeting details and detailed agenda will be posted on the mailing list pcc.i-citel@eblist.state.gov. People desiring to participate on this list may apply to the secretariat at minardje@state.gov.

The meetings are open to the public.

Dated: January 28, 2008.
Marian R. Gordon,
International Communications & Information Policy, Department of State.

[FR Doc. E8-1950 Filed 2-1-08; 8:45 am]

BILLING CODE 4710-07-P